DEPARTMENT OF THE INTERIOR

Bureau of Reclamation

Cachuma Lake Resource Management Plan, Santa Barbara County, CA

AGENCY: Bureau of Reclamation, Department of the Interior.

ACTION: Notice of availability of the Final Environmental Impact Statement (EIS).

SUMMARY: Pursuant to the National Environmental Policy Act, the Bureau of Reclamation (Reclamation) has made available the Final EIS for the Cachuma Lake Resource Management Plan (RMP). The RMP involves alternatives for future use of the project area for recreation and resource protection and management.

A Notice of Availability of the Draft EIS was published in the Federal Register on July 25, 2008 (73 FR 43472). The written comment period on the Draft EIS ended on September 23, 2008. On October 9, 2008 a notice was published in the Federal Register (73 FR 59669) extending the comment period on the Draft EIS until October 31, 2008. The Final EIS contains responses to all comments received and reflects comments and any additional information received during the Draft EIS review period.

DATES: Reclamation will not make a decision on the proposed action until at least 30 days after release of the Final EIS. After the 30-day wait period, Reclamation will complete a Record of Decision (ROD). The ROD will state the action that will be implemented and will discuss all factors leading to the decision.

ADDRESSES: Send requests for a compact disc copy of the Final EIS to Mr. Jack Collins, Bureau of Reclamation, 1243 N Street, Fresno, CA 93721.

Copies of the Final RMP/EIS will be available at: http://www.usbr.gov/mp/nepa/nepa_projdetails.cfm?Project_ID=283. See the SUPPLEMENTARY INFORMATION section for locations where copies of the Final EIS are available.

FOR FURTHER INFORMATION CONTACT: Mr. Jack Collins, Bureau of Reclamation, Monday through Friday, 7 a.m. to 1 p.m., at (559) 349-4544 (TDD (559) 487-5933) or jwcollins@usbr.gov.

SUPPLEMENTARY INFORMATION: Cachuma Lake is an existing reservoir formed by Bradbury Dam, and located in Santa Barbara County, California. The dam, which provides irrigation, domestic, and municipal and industrial water supplies to the City of Santa Barbara, Goleta Water District, Montecito Water District, Carpinteria Valley Water District, and Santa Ynez River Water Conservation District, was constructed in the 1950s. The Cachuma Project has delivered an average of 25,000 acre-feet per year over the past 45 years and encompasses approximately 9,250 acres. In 1956, operation and maintenance of the Cachuma project was transferred from Reclamation to the Cachuma Operation and Maintenance Board. Reclamation still retains ownership of all project facilities and is responsible for the operation of the dam. The RMP will have a planning horizon of 20 years.

The new RMP would: (1) Ensure safe storage and timely delivery of high-quality water to users while enhancing natural resources and recreational opportunities; (2) protect natural resources while educating the public about the value of good stewardship; (3) provide recreational opportunities to meet the demands of a growing, diverse population; (4) ensure recreational diversity and the quality of the experience; and (5) provide the updated management considerations for establishing a new management agreement with the managing partner.

The Final EIS is a program-level analysis of the potential environmental impacts associated with adoption of the RMP. The Final EIS outlines the formulation and evaluation of alternatives designed to address these issues by representing the varied interests present at the Plan Area and identifies Alternative 2 (Enhancement) as the Preferred Alternative. The RMP is intended to be predominately self-mitigating through implementation of RMP management actions and strategies, and the EIS also includes measures intended to reduce the adverse effects of the RMP.

Copies of the Final EIS are available at the following locations:

• Bureau of Reclamation, Mid-Pacific Region, Regional Library, 2800 Cottage Way, Sacramento, CA 94825.

• Bureau of Reclamation, South-Central California Area Office, 1243 N. Street, Fresno, CA 93721.

• Cachuma Lake State Recreation Area, Highway 154, Santa Barbara, CA 93454.

• Santa Maria Public Library, Central Location, 420 South Broadway Avenue, Santa Maria, CA 93454.

• Santa Barbara Public Library, 40 East Anapamu Street, Santa Barbara, CA 93101.

• Bureau of Reclamation, Denver Office Library, Building 67, Room 167, Denver Federal Center, 6th and Kipling, Denver, CO 80225.

• Natural Resources Library, U.S. Department of the Interior, 1849 C Street, NW., Main Interior Building, Washington, DC 20240-0001.

Before including your name, address, phone number, e-mail address, or other personal identifying information in any correspondence, you should be aware that your entire correspondence—including your personal identifying information—may be made publicly available at any time. While you ask us in your correspondence to withhold your personal identifying information from public review, we cannot guarantee that we will be able to do so.

Dated: April 21, 2010.
David W. Gore,
Assistant Regional Director, Mid-Pacific Region.

[FR Doc. 2010-11994 Filed 5-18-10; 8:45 am]

BILLING CODE 4310-MN-P